DEPARTMENT OF THE INTERIOR

National Park Service

[NPS-WASO-NAGPRA-NPS0033438; PPWOCRADN0-PCU00RP14.R50000]

Notice of Intent To Repatriate Cultural Items: Fowler Museum at the University of California Los Angeles, Los Angeles, CA

AGENCY: National Park Service, Interior.

ACTION: Notice.

SUMMARY: The Fowler Museum at the University of California Los Angeles (Fowler Museum at UCLA), in consultation with the appropriate Indian Tribes or Native Hawaiian organizations, has determined that the cultural items listed in this notice meet the definition of sacred objects and objects of cultural patrimony. Lineal descendants or representatives of any Indian Tribe or Native Hawaiian organization not identified in this notice that wish to claim these cultural items should submit a written request to the Fowler Museum at UCLA. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Fowler Museum at UCLA at the address in this notice by March 30, 2022.

FOR FURTHER INFORMATION CONTACT: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3005, of the intent to repatriate cultural items under the control of the Fowler Museum at the University of California Los Angeles, Los Angeles, CA, that meet both the definition of sacred objects and the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1981, Steven and Susan Nelson gifted two Navajo medicine bundles (X81.197 and X81.196) to the Fowler Museum at UCLA, and in 1984, they gifted a suitcase of Navajo Yei ceremony dance regalia (X84.224) to the Museum. The two medicine bundles and one set of dance regalia are both sacred objects and objects of cultural patrimony.

The Navajo medicine bundles and dance regalia are used in current traditional religious ceremonial practice. These items are significant to the Navajo people, and they are considered both “sacred objects” and “objects of cultural patrimony” due to their having ongoing historical, traditional, and cultural importance central to Navajo (Diné) culture, spirituality, and religion.

Determinations Made by the Fowler Museum at the University of California Los Angeles

Officials of the Fowler Museum at the University of California Los Angeles have determined that:

• Pursuant to 25 U.S.C. 3001(3)(C), the three cultural items described above are specific ceremonial objects needed by traditional Native American religious leaders for the practice of traditional Native American religions by their present-day adherents.

• Pursuant to 25 U.S.C. 3001(3)(D), the three cultural items described above have ongoing historical, traditional, or cultural importance central to the Native American group or culture itself, rather than property owned by an individual.

• Pursuant to 25 U.S.C. 3001(2), there is a relationship of shared group identity that can be reasonably traced between the sacred objects and objects of cultural patrimony and the Navajo Nation, Arizona, New Mexico, & Utah.

Additional Requestors and Disposition

Lineal descendants or representatives of any Indian Tribe or Native Hawaiian organization not identified in this notice that wish to claim these cultural items should submit a written request with information in support of the claim to Wendy G. Teeter, Ph.D., Fowler Museum at UCLA, Box 951549, Los Angeles, CA 90095-1549, telephone (310) 825-1864, email wteeter@arts.ucla.edu, by March 30, 2022. After that date, if no additional claimants have come forward, transfer of control of the sacred objects and objects of cultural patrimony to the Navajo Nation, Arizona, New Mexico, & Utah may proceed.

The Fowler Museum at the University of California Los Angeles is responsible for notifying the Navajo Nation, Arizona, New Mexico, & Utah that this notice has been published.

Dated: February 16, 2022.
Melanie O'Brien,
Manager, National NAGPRA Program.

[FR Doc. 2022-04107 Filed 2-25-22; 8:45 am]

BILLING CODE 4312-52-P